DEPARTMENT OF COMMERCE

National Oceanic and Atmospheric Administration

50 CFR PART 223

[I.D. 041706C]

RIN 0648-AU10

Sea Turtle Conservation; Public Hearing Notification

AGENCY: National Marine Fisheries Service (NMFS), National Oceanic and Atmospheric Administration (NOAA), Commerce.

ACTION: Notice of public hearing.

SUMMARY: The National Marine Fisheries Service (NMFS) is announcing its intent to hold a public hearing to inform interested parties of the proposed modifications to Federal regulations affecting pound net leaders in the Virginia Chesapeake Bay and to accept public comments on this action.

DATES: NMFS will hold a public hearing at the Double Tree Hotel Virginia Beach, on Wednesday, April 26, 2006, at 7 p.m., eastern daylight time.

ADDRESSES: The Double Tree Hotel Virginia Beach is located at 1900 Pavilion Drive, Virginia Beach, VA 23451 (ph..757-422-8900).

Written comments on this action may be submitted on this proposed rule, identified by RIN 0648-AU10, by any one of the following methods:

(1) E-mail: poundnetmodification@noaa.gov. Please include the RIN 0648-AU10 in the subject line of the message.

(2) Federal eRulemaking Portal: http://www.regulations.gov. Follow the instruction on the website for submitting comments.

(3) NMFS/Northeast Region Website: http://www.nero.noaa.gov/nero/regs/com.html. Follow the instructions on the website for submitting comments.

(4) Mail: Mary Colligan, Assistant Regional Administrator for Protected Resources, NMFS, Northeast Region, One Blackburn Drive, Gloucester, MA 01930, ATTN: Sea Turtle Conservation Measures, Proposed Rule

(5) Facsimile (fax): 978-281-9394, ATTN: Sea Turtle Conservation Measures, Proposed Rule

FOR FURTHER INFORMATION CONTACT: Pasquale Scida (ph. 978-281-9208), NMFS, One Blackburn Drive, Gloucester, MA 01930.

SUPPLEMENTARY INFORMATION: A proposed rule was issued on April 17, 2006 (73 FR 19675), which proposes revisions to current regulations. The proposed rule would require any offshore pound net set in Pound Net Regulated Area I in the Virginia waters of the Chesapeake Bay to use a modified pound net leader from May 6 to July 15 each year. This action, taken under the Endangered Species Act of 1973 (ESA), responds to new information generated by gear research and aims to conserve sea turtles listed as threatened or endangered. Additional information on the justification for this action can be found in that proposed rule.

NMFS recognizes the need and importance to obtain public comment on the proposed action. In addition to the April 26 meeting announced in this document, NMFS is accepting written comments on the proposed action. Written comments on the proposed rule or requests for copies of the literature cited, the draft Environmental Assessment, or Regulatory Impact Review and Initial Regulatory Flexibility Analysis should be addressed to the Assistant Regional Administrator for Protected Resources, NMFS, One Blackburn Drive, Gloucester, MA 01930. Comments and requests for supporting documents may be sent via fax to 978-281-9394. Comments will be accepted via email at poundnetmodification@noaa.gov and via the Federal eRulemaking Portal: http://www.regulations.gov. Follow the instruction on the website for submitting comments. The public comment period closes at 5 p.m., eastern daylight time, on May 1, 2006.

In preparing the final rule for this action, NMFS will fully consider the public comments received during the 15-day comment period (either in writing or verbally during the public hearing).

Special Accommodations

This meeting is accessible to people with disabilities. Requests for sign language interpretation or other auxiliary aids should be directed to Pasquale Scida, telephone 978-281-3928 x9208, fax 978-281-9394, at least five days before the scheduled meeting date.

Authority: 16 U.S.C. 1531 et seq.

Dated: April 19, 2006.
James H. Lecky,
Director, Office Protected Resources, National Marine Fisheries Service.

[FR Doc. E6-6106 Filed 4-21-06; 8:45 am]

BILLING CODE 3510-22-S